DEPARTMENT OF TRANSPORTATION

Federal Aviation Administration

[Docket No. FAA-2020-1199; Airspace Docket No. 20-AEA-21]

Notice of Availability of Written Re-Evaluation and Record of Decision; New York/New Jersey/Philadelphia Metropolitan Area Airspace Redesign

AGENCY: Federal Aviation Administration (FAA), DOT.

ACTION: Notice.

SUMMARY: The Federal Aviation Administration (FAA) announces the availability of a Written Re-evaluation and Record of Decision (WR/ROD) for the New York/New Jersey/Philadelphia (NY/NJ/PHL) Metropolitan Area Airspace Redesign project. This 2020 WR/ROD follows the issuance of a Final Environmental Impact Statement (EIS) for the project, issued in July 2007, and a subsequent ROD (September 2007) that approved the Integrated Airspace Alternative with Integrated Control Complex for implementation. The September 2007 ROD was followed by a corrected ROD (October 2007), as well as a WR/ROD (July 2008) that re-affirmed the original decision in light of new schedule limits at John F. Kennedy International Airport (JFK) and Newark Liberty International Airport (EWR).

DATES: The FAA's WR/ROD for the NY/NJ/PHL Metropolitan Airspace Redesign is effective December 22, 2020.

FOR FURTHER INFORMATION CONTACT: For additional information, contact Matthew Cathcart, Acting Manager, Operations Support Group, in writing to Federal Aviation Administration, Eastern Service Center, Operations Support Group, AJV-E2, FAA Southern Regional Office, P.O. Box 20636, Atlanta, GA 30320; by telephone, at (404) 305-5624; or, by electronic mail, at Matthew.Cathcart@faa.gov.

SUPPLEMENTARY INFORMATION: The purpose of the NY/NJ/PHL Metropolitan Area Airspace Redesign project was to increase the efficiency and reliability of the airspace structure and the Air Traffic Control (ATC) system, thereby accommodating growth while enhancing safety and reducing delays in air travel for the NY/NJ/PHL Metropolitan Area. The Airspace Redesign project was intended to modernize the structure of the NY/NJ/PHL air traffic environment while laying a foundation for achieving the Next Generation Air Transportation System (NextGen) in an environmentally responsible manner.

While four stages of implementation were originally planned, FAA paused the project in 2012 in light of air transportation system changes in the intervening years. While several beneficial elements of the project were implemented, the National Airspace System evolved significantly between the 2007 EIS and 2012. New NextGen capabilities, such as Time Based Metering and advanced satellite based navigation procedures, and increasing consolidation of the airline industry, changes in system use, and evolving traffic projections resulted in new and different airspace and procedures requirements. As a result, the FAA suspended the Airspace Redesign project in May 2013. The FAA has determined it is appropriate to end implementation and has prepared the aforementioned December 2020 WR/ROD. The WR/ROD may be accessed on the FAA's public website: https://www.faa.gov/air_traffic/nas/nynjphl_redesign/documentation/.

This Notice of Availability of the December 2020 WR/ROD also serves as the response to Section 560 of the FAA Reauthorization Act of 2018, which imposed the following requirement:

Not later than 90 days after the date of enactment of this Act, the Administrator shall develop and publish in the Federal Register a work plan for the New York/New Jersey/Philadelphia Metropolitan Area Airspace Project.

As discussed above, work on the NY/NJ/PHL Metropolitan Area Airspace Redesign project was suspended in May 2013, and the FAA has determined it is appropriate to end implementation. There is no work plan for the project beyond the preparation of the December 2020 WR/ROD and this Notice.

Issued in Atlanta, Georgia, on December 22, 2020.
Ryan W. Almasy,
Director (Acting), Eastern Service Center, Mission Support Services, Air Traffic Organization, Federal Aviation Administration.

[FR Doc. 2020-28745 Filed 12-28-20; 8:45 am]

BILLING CODE P